DEPARTMENT OF TRANSPORTATION

Federal Aviation Administration

14 CFR Part 39

[Docket No. FAA-2017-0812; Product Identifier 2016-NM-198-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200 series airplanes, Model A330-200 Freighter series airplanes, and Model A330-300 series airplanes. This proposed AD was prompted by an evaluation by the design approval holder (DAH) indicating that certain fuselage structures are subject to widespread fatigue damage (WFD). This proposed AD would require reinforcement modifications of various structural parts of the fuselage, and related investigative and corrective actions if necessary. We are proposing this AD to address the unsafe condition on these products.

DATES: We must receive comments on this proposed AD by November 3, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Standards Branch, 1601 Lind Avenue SW., Renton, WA. For information on the availability of this material at the FAA, call 425-227-1221.

Examining the AD Docket

You may examine the AD docket on the Internet at http://www.regulations.gov by searching for and locating Docket No. FAA-2017-0812; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Section, Transport Standards Branch, FAA, 1601 Lind Avenue SW., Renton, WA 98057-3356; telephone 425-227-1138; fax 425-227-1149.

SUPPLEMENTARY INFORMATION:

Comments Invited

We invite you to send any written relevant data, views, or arguments about this proposal. Send your comments to an address listed under the ADDRESSES section. Include “Docket No. FAA-2017-0812; Product Identifier 2016-NM-198-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Fatigue damage can occur locally, in small areas or structural design details, or globally, in widespread areas. Multiple-site damage is widespread damage that occurs in a large structural element such as a single rivet line of a lap splice joining two large skin panels. Widespread damage can also occur in multiple elements such as adjacent frames or stringers. Multiple-site damage and multiple-element damage cracks are typically too small initially to be reliably detected with normal inspection methods. Without intervention, these cracks will grow, and eventually compromise the structural integrity of the airplane. This condition is known as widespread fatigue damage. It is associated with general degradation of large areas of structure with similar structural details and stress levels. As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all of these airplanes that will be certificated in the future. For existing and future airplanes subject to the WFD rule, the rule requires that DAHs establish a limit of validity (LOV) of the engineering data that support the structural maintenance program. Operators affected by the WFD rule may not fly an airplane beyond its LOV, unless an extended LOV is approved.

The WFD rule (75 FR 69746, November 15, 2010) does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

The European Aviation Safety Agency (EASA), which is the Technical Agent for the Member States of the European Union, has issued EASA Airworthiness Directive 2016-0207, dated October 19, 2016 (referred to after this as the Mandatory Continuing Airworthiness Information, or “the MCAI”), to correct an unsafe condition for all Airbus Model A330-200 series airplanes, Model A330-200 Freighter series airplanes, and Model A330-300 series airplanes. The MCAI states:

An analysis conducted on A330 aeroplanes identified structural areas which are susceptible to widespread fatigue damage (WFD).

This condition, if not corrected, could lead to crack initiation and undetected propagation, leading to reduced structural integrity of the aeroplane, possibly resulting in rapid depressurisation and consequent injury to occupants.

To address this potential unsafe condition, Airbus developed a number of modifications (Mod) and published associated Service Bulletins (SB) for embodiment in service, to provide instructions to reinforce the various structural parts of the fuselage.

For the reasons described above, this [EASA] AD requires accomplishment of these modifications and reinforcements [and related investigative and corrective actions].

Related investigative actions include a rotating probe hole inspection for cracking. You may examine the MCAI in the AD docket on the Internet at http://www.regulations.gov by searching for and locating Docket No. FAA-2017-0812.

Related Service Information Under 1 CFR Part 51

Airbus has issued the following service information. This service information describes procedures for modifications and reinforcement of various structural parts of the fuselage. These documents are distinct since they apply to different airplane models in different configurations.

• Airbus Service Bulletin A330-53-3144, Revision 01, dated July 25, 2006.

• Airbus Service Bulletin A330-53-3144, Revision 04, dated November 23, 2015.

• Airbus Service Bulletin A330-53-3222, Revision 01, dated March 31, 2016.

• Airbus Service Bulletin A330-53-3223, Revision 00, dated January 19, 2015.

• Airbus Service Bulletin A330-53-3224, Revision 01, excluding Appendix 01 and including Appendix 02, dated April 14, 2016.

• Airbus Service Bulletin A330-53-3225, Revision 02, excluding Appendix 01 and including Appendix 02, dated June 8, 2016.

• Airbus Service Bulletin A330-53-3226, Revision 02, excluding Appendix 01 and including Appendices 02, 03, and 04, dated October 27, 2016.

• Airbus Service Bulletin A330-53-3236, Revision 02, excluding Appendix 01 and including Appendices 02 and 03, dated March 23, 2016.

• Airbus Service Bulletin A330-53-3237, Revision 01, dated February 8, 2016.

• Airbus Service Bulletin A330-53-3238, Revision 01, dated October 19, 2015.

• Airbus Service Bulletin A330-53-3239, Revision 01, dated July 4, 2016.

• Airbus Service Bulletin A330-53-3244, Revision 01, dated August 2, 2016.

• Airbus Service Bulletin A330-53-3248, Revision 02, dated July 27, 2016.

• Airbus Service Bulletin A330-53-3251, Revision 01, dated June 23, 2016.

• Airbus Service Bulletin A330-53-3252, Revision 01, dated June 30, 2016.

• Airbus Service Bulletin A330-53-3257, Revision 01, dated March 15, 2016.

• Airbus Service Bulletin A330-53-3258, Revision 00, dated April 20, 2015.

• Airbus Service Bulletin A330-53-3259, Revision 02, dated July 18, 2016.

• Airbus Service Bulletin A330-53-3263, Revision 01, excluding Appendix 01 and including Appendix 02, dated December 1, 2015.

• Airbus Service Bulletin A330-53-3273, Revision 00, dated September 28, 2016.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Explanation of Compliance Time

The compliance time for the reinforcement modifications specified in this proposed AD for addressing WFD was established to ensure that discrepant structure is addressed before WFD develops in airplanes. Standard inspection techniques cannot be relied on to detect WFD before it becomes a hazard to flight. We will not grant any extensions of the compliance time to complete any AD-mandated service bulletin related to WFD without extensive new data that would substantiate and clearly warrant such an extension.

Costs of Compliance

We estimate that this proposed AD affects 99 airplanes of U.S. registry.

We estimate the following costs to comply with this proposed AD:

Estimated Costs
Action | Labor cost | Parts cost | Cost per product | Cost on U.S. operators
Reinforcement modifications | Up to 317 work-hours × $85 per hour = $26,945 | Up to $41,050 | Up to $67,995 | Up to $6,731,505.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2017-0812; Product Identifier 2016-NM-198-AD.

(a) Comments Due Date

We must receive comments by November 3, 2017.

(b) Affected ADs

None.

(c) Applicability

This AD applies to the Airbus airplanes identified in paragraphs (c)(1), (c)(2), and (c)(3) of this AD, certificated in any category, all manufacturer serial numbers.

(1) Model A330-201, -202, -203, -223, and -243 airplanes.

(2) Model A330-223F and -243F airplanes.

(3) Model A330-301, -302, -303, -321, -322, -323, -341, -342, and -343 airplanes.

(d) Subject

Air Transport Association (ATA) of America Code 53, Fuselage.

(e) Reason

This AD was prompted by an evaluation by the design approval holder (DAH) indicating that certain fuselage structures are subject to widespread fatigue damage (WFD). We are issuing this AD to prevent crack initiation and undetected propagation in the fuselage, which could result in reduced structural integrity of the airplane.

(f) Compliance

Comply with this AD within the compliance times specified, unless already done.

(g) Modifications

Except as specified in paragraphs (i)(1) and (i)(2) of this AD, before exceeding the applicable total flight cycles or total flight hours structural modification point (SMP) for each action, as specified in table 1 to paragraph (g) of this AD: Modify the airplane, including all applicable related investigative actions and corrective actions, based on the weight variant (WV) group designations specified in table 2 to paragraph (h) of this AD, and as specified in table 1 to paragraph (g) of this AD, except as specified in paragraph (i)(3) of this AD. Do all applicable related investigative actions and corrective actions before further flight. For the purposes of this AD, the short range (SR) and long range (LR) SMPs specified in table 1 to paragraph (g) of this AD must be used.

Table 1 to Paragraph (g) of This AD—Modification
Description of action | Applicability | SMP SR | SMP LR
Improve circumferential joints at frames (FR) 45 and 54 of the fuselage, in accordance with the Accomplishment Instructions of Airbus Service Bulletin A330-53-3144, Revision 04, dated November 23, 2015 (“A330-53-3144, R4”) | Group 32A Group 33A Group 33B | 32,500 total flight cycles 23,700 total flight cycles or 71,300 total flight hours, whichever occurs first 27,600 total flight cycles or 83,000 total flight hours, whichever occurs first | 26,600 flight cycles. 20,400 total flight cycles 23,700 total flight cycles.
| Group 33C | 23,300 total flight cycles or 70,000 total flight hours, whichever occurs first | 20,000 total flight cycles.
| Group 33D | 22,700 total flight cycles or 68,300 flight hours, whichever occurs first | 19,500 total flight cycles.
Improve splicing area from FR48 to FR53-2 between stringers (STRG) 23 and 26 left hand (LH)/right hand (RH) of the fuselage, in accordance with the Accomplishment Instructions of Airbus Service Bulletin A330-53-3222, Revision 01, dated March 31, 2016 (“A330-53-3222, R1”) (Airbus Modification 204315) | Groups 32A and 32E Group 33A Group 33B | 23,100 total flight cycles or 80,900 total flight hours, whichever occurs first 24,200 total flight cycles or 79,100 total flight hours, whichever occurs first 19,700 total flight cycles or 64,300 total flight hours, whichever occurs first | 20,900 total flight cycles. 21,800 total flight cycles. 17,700 total flight cycles.
| Groups 33C, 33D, and 33E | 21,600 total flight cycles or 70,600 flight hours, whichever occurs first | 19,400 total flight cycles.
| A330-200F | 27,400 total flight cycles or 82,200 total flight hours, whichever occurs first | 27,400 total flight cycles or 82,200 total flight hours, whichever occurs first.
Reinforce couplings in area FR20—FR25/STRG20 RH—STRG22 RH of the forward fuselage, in accordance with the Accomplishment Instructions of Airbus Service Bulletin A330-53-3223, Revision 00, dated January 19, 2015 (“A330-53-3223, R0”) | Groups 32A, 32E, 33B, 33C, 33D and 33E | 30,900 total flight cycles | 30,900 total flight cycles.
Reinforce circumferential joint at FR72 of the fuselage, in accordance with the Accomplishment Instructions of Airbus Service Bulletin A330-53-3224, Revision 01, excluding Appendix 01 and including Appendix 02, dated April 14, 2016 (“A330-53-3224, R1”) | Group 33A | 29,700 total flight cycles or 89,600 total flight hours, whichever occurs first | 25,500 total flight cycles.
Reinforce circumferential joint at FR58 of the fuselage, in accordance with the Accomplishment Instructions of Airbus Service Bulletin A330-53-3225, Revision 02, excluding Appendix 01 and including Appendix 02, dated June 8, 2016 (“A330-53-3225, R2”) | Group 33A | 16,300 total flight cycles or 49,300 total flight hours, whichever occurs first | 13,300 total flight cycles or 90,700 total flight hours, whichever occurs first.
Reinforce circumferential joint between FR53.6—FR53.7 for emergency door TYPE 1 area of the center fuselage, in accordance with the Accomplishment Instructions of Airbus Service Bulletin A330-53-3226, Revision 02, excluding Appendix 01 and including Appendices 02, 03, and 04, dated October 27, 2016 (“A330-53-3226, R2”); or Airbus Service Bulletin A330-53-3273, Revision 00, dated September 28, 2016 (“A330-53-3273, R0”) | Group 32A Groups 33C, 33D and 33E | 26,100 total flight cycles or 91,600 total flight hours, whichever occurs first 15,600 total flight cycles or 46,800 total flight hours, whichever occurs first | 21,000 total flight cycles. 12,600 total flight cycles or 84,800 total flight hours, whichever occurs first.
| Group 33A | 34,400 total flight cycles | 27,800 total flight cycles.
| Group 33B | 19,900 total flight cycles or 59,800 total flight hours, whichever occurs first | 16,100 total flight cycles.
| Group 32E | 19,900 total flight cycles or 69,900 total flight hours, whichever occurs first | 16,200 total flight cycles.
Reinforce circumferential joint between FR53.6—FR53.7 LH/RH of option emergency door TYPE A area of the center fuselage, in accordance with the Accomplishment Instructions of Airbus Service Bulletin A330-53-3236, Revision 02, excluding Appendix 01 and including Appendices 02 and 03, dated March 23, 2016 (“A330-53-3236, R2”) | Group 33A | 30,900 total flight cycles or 93,200 total flight hours, whichever occurs first | 25,400 total flight cycles.
Improve fatigue life of internal center fuselage structure on longitudinal beams above the center wing box, in accordance with the Accomplishment Instructions of Airbus Service Bulletin A330-53-3237, Revision 01, dated February 8, 2016 (“A330-53-3237, R1”) | Groups 32A, 33A, 33B, 33C, and 33D Group 32A | 27,300 total flight cycles 38,400 total flight cycles | 27,300 total flight cycles. 38,400 total flight cycles.
Update lower/lateral frame splicing with corner fitting between FR53.3 and FR54 of the center fuselage, in accordance with the Accomplishment Instructions of Airbus Service Bulletin A330-53-3238, Revision 01, dated October 19, 2015 (“A330-53-3238, R1”) | Group 33A Group 33B Groups 33C and 33D | 28,800 total flight cycles 36,200 total flight cycles 34,700 total flight cycles | 28,800 total flight cycles. 36,200 total flight cycles. 34,700 total flight cycles.
Reinforce longitudinal butt joints in section 13, in accordance with the Accomplishment Instructions of Airbus Service Bulletin A330-53-3239, Revision 01, dated July 4, 2016 (“A330-53-3239, R1”) | A330-200F | 15,100 total flight cycles | 15,100 total flight cycles.
Reinforce circumferential joint at FR31 between STRG 7LH and STRG 8RH of forward fuselage, in accordance with the Accomplishment Instructions of Airbus Service Bulletin A330-53-3244, Revision 01, dated August 2, 2016 (“A330-53-3244, R1”) | A330-200F | 15,500 total flight cycles or 46,500 total flight hours, whichever occurs first | 15,500 total flight cycles or 46,500 total flight hours, whichever occurs first.
Reinforce frame couplings in section 13, 14, and 14A of the forward fuselage, in accordance with the Accomplishment Instructions of Airbus Service Bulletin A330-53-3248, Revision 02, dated July 27, 2016 (“A330-53-3248, R2”) | Group 33A | 32,000 total flight cycles | 32,000 total flight cycles.
Reinforce circumferential joint/stringer coupling in area of FR37.1 of the forward fuselage, in accordance with the Accomplishment Instructions of Airbus Service Bulletin A330-53-3251, Revision 01, dated June 23, 2016 (“A330-53-3251, R1”) | Group 33C Pre-Modification 46636 Groups 33C and 33D Post-Modification 46636 | 38,200 total flight cycles 30,600 total flight cycles or 99,500 total flight hours, whichever occurs first | 32,000 total flight cycles. 27,600 total flight cycles.
| Group 33E | 32,200 total flight cycles | 29,100 total flight cycles.
Reinforce circumferential joint/stringer coupling in area of FR37.1 of the forward fuselage, in accordance with the Accomplishment Instructions of Airbus Service Bulletin A330-53-3252, Revision 01, dated June 30, 2016 (“A330-53-3252, R1”) | Groups 33C and 33D, Post-Modification 46636 Group 33E | 30,600 total flight cycles or 99,500 total flight hours, whichever occurs first 32,200 total flight cycles | 27,600 total flight cycles. 29,100 total flight cycles.
Reinforce frame couplings in rear area of the fuselage, in accordance with the Accomplishment Instructions of Airbus Service Bulletin A330-53-3257, Revision 01, dated March 15, 2016 (“A330-53-3257, R1”) | Groups 33A and 33B | 24,000 total flight cycles | 24,000 total flight cycles.
Reinforce corner fittings in section 13 of the forward fuselage, in accordance with the Accomplishment Instructions of Airbus Service Bulletin A330-53-3258, Revision 00, dated April 20, 2015 (“A330-53-3258, R0”) | Group 32A | 31,800 total flight cycles | 31,800 total flight cycles.
Reinforce circumferential joint at FR58 (aeroplane Post-Modification 40556/D18255) of the rear fuselage, in accordance with the Accomplishment Instructions of Airbus Service Bulletin A330-53-3259, Revision 02, dated July 18, 2016 (“A330-53-3259, R2”) | Group 32E | 18,500 total flight cycles or 65,400 total flight hours, whichever occurs first | 14,600 total flight cycles or 95,700 total flight hours, whichever occurs first.
| Group 33A | 34,800 total flight cycles | 28,400 total flight cycles.
| Group 33B | 33,500 total flight cycles | 27,400 total flight cycles.
Reinforce frames in rear area of the fuselage, in accordance with the Accomplishment Instructions of Airbus Service Bulletin A330-53-3263, Revision 01, excluding Appendix 01 and including Appendix 02, dated December 1, 2015 (“A330-53-3263, R1”) | Groups 32A, 32E, 33B, 33C, 33D, and 33E | 23,300 total flight cycles or 69,700 total flight hours, whichever occurs first | 20,800 total flight cycles.

(h) Weight Variant (WV) Group Designations

For the purposes of this AD, table 2 to paragraph (h) of this AD identifies the WV group designations specified in the “Applicability” column of Table 1 to paragraph (g) and Table 3 to paragraph (i) of this AD:

Table 2 to Paragraph (h) of This AD—WV Group Designations
Airplane model | WV group | Weight variants
A330-200 | Group 32A | 020, 021, 022, 023, 024, 025, 026, and 027.
| Group 32E | 050, 051, 052, 053, 054, 055, 056, 057, 058, 059, 060, 061, 062, 063, 064, 080, 081, 082, and 083.
A330-200F | N/A | 000, 001, and 002.
A330-300 | Group 33A | 000, 001, 002, 003, and 004.
| Group 33B | 010, 011, 012, 013, and 014.
| Group 33C | 020, 024, 025, 026, and 027.
| Group 33D | 022.
| Group 33E | 030, 031, 032, 033, 034, 035, 039, 050, 051, 052, 053, 054, 055, 056, 057, 058, 059, 060, 080, 081, 082, and 083.

(i) Exceptions to Service Information and Compliance Times

(1) Do not do the applicable modifications required by paragraph (g) of this AD before the applicable times specified in table 3 to paragraph (i) of this AD. Where two limits (total flight cycles and total flight hours) within the same sub-row of the table are specified, both times must be exceeded before accomplishment of the modification. For airplanes already modified before the threshold specified in table 3 to paragraph (i) of this AD is reached, within 6 months after the effective date of this AD, obtain instructions for additional maintenance tasks (modifications/inspections) from and approved by the Manager, International Section, Transport Standards Branch, FAA; or the European Aviation Safety Agency (EASA); or Airbus's EASA Design Organization Approval (DOA), and accomplish those tasks within the compliance time specified therein.

(2) For airplanes that have already reached or exceeded the SMP threshold(s), as specified for each action in table 1 to paragraph (g) of this AD, as applicable, accomplishment of the modification can be deferred for a period not exceeding 12 months after the effective of this AD; except for accomplishment of the modifications specified in A330-53-3237, R1, which can be deferred for a period not exceeding 15 months after the effective date of this AD.

(3) If any service information specified in paragraph (g) or (j) of this AD specifies to contact Airbus for appropriate action: Before further flight, accomplish corrective actions in accordance with the procedures specified in paragraph (l)(2) of this AD.

Table 3 to Paragraph (i) of This AD —Compliance Time Lower Threshold
Airbus Service Bulletin (modification) | Applicability | Modification not before:
A330-53-3222, R1 | Groups 32A, 32E, 33A, 33C, 33D and 33E | 10,000 total flight cycles.
| Group 33B | 12,000 total flight cycles.
| A330-200F | 8,900 total flight cycles and 26,600 total flight hours.
A330-53-3224, R1 | Group 33A | 10,000 total flight cycles and 6,600 total flight hours.
A330-53-3225, R2 | Group 33A | 3,900 total flight cycles and 10,200 total flight hours.
A330-53-3237, R1 | Groups 32A, 33A, 33B, 33C, and 33D | 3,900 total flight cycles.
A330-53-3238, R1 | Groups 32A, 33A, 33B, 33C, and 33D | 9,000 total flight cycles.

(j) Additional Work for Certain Airplanes

For airplanes that have been modified before the effective date of this AD, in accordance with Airbus Service Bulletin A330-53-3144, Revision 00, dated August 23, 2005; Airbus Service Bulletin A330-53-3222, Revision 00, dated January 15, 2015; or Airbus Service Bulletin A330-53-3237, Revision 00, dated January 15, 2015, as applicable: Within 12 months after the effective date of this AD, accomplish the additional work specified in the Accomplishment Instructions of Airbus Service Bulletin A330-53-3144, Revision 01, dated July 25, 2006; A330-53-3222, R1; and A330-53-3237, R1; as applicable.

(k) Credit for Previous Actions

This paragraph provides credit for applicable actions required by paragraph (g) of this AD, if those actions were performed before the effective date of this AD using the applicable service information specified in paragraphs (k)(1) through (k)(19) of this AD.

(1) Airbus Service Bulletin A330-53-3144, Revision 01, dated July 25, 2006.

(2) Airbus Service Bulletin A330-53-3144, Revision 02, dated April 20, 2011.

(3) Airbus Service Bulletin A330-53-3144, Revision 03, dated January 15, 2015.

(4) Airbus Service Bulletin A330-53-3224, Revision 00, dated January 16, 2015.

(5) Airbus Service Bulletin A330-53-3225, Revision 00, dated January 16, 2015.

(6) Airbus Service Bulletin A330-53-3225, Revision 01, dated February 26, 2016.

(7) Airbus Service Bulletin A330-53-3226, Revision 00, dated January 15, 2015.

(8) Airbus Service Bulletin A330-53-3226, Revision 01, dated March 3, 2016.

(9) Airbus Service Bulletin A330-53-3236, Revision 00, dated January 15, 2015.

(10) Airbus Service Bulletin A330-53-3236, Revision 01, dated August 24, 2015.

(11) Airbus Service Bulletin A330-53-3238, Revision 00, dated January 15, 2015.

(12) Airbus Service Bulletin A330-53-3239, Revision 00, dated April 20, 2015.

(13) Airbus Service Bulletin A330-53-3244, Revision 00, dated April 7, 2015.

(14) Airbus Service Bulletin A330-53-3251, Revision 00, dated May 13, 2015.

(15) Airbus Service Bulletin A330-53-3252, Revision 00, dated April 10, 2015.

(16) Airbus Service Bulletin A330-53-3257, Revision 00, dated July 21, 2015.

(17) Airbus Service Bulletin A330-53-3259, Revision 00, dated May 11, 2015.

(18) Airbus Service Bulletin A330-53-3259, Revision 01, dated February 26, 2016.

(19) Airbus Service Bulletin A330-53-3263, Revision 00, dated July 21, 2015.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): Except as required by paragraph (i) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA AD 2016-0207, dated October 19, 2016, for related information. This MCAI may be found in the AD docket on the Internet at http://www.regulations.gov by searching for and locating Docket No. FAA-2017-0812.

(2) For more information about this AD, contact Vladimir Ulyanov, Aerospace Engineer, International Section, Transport Standards Branch, FAA, 1601 Lind Avenue SW., Renton, WA 98057-3356; telephone 425-227-1138; fax 425-227-1149.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Standards Branch, 1601 Lind Avenue SW., Renton, WA. For information on the availability of this material at the FAA, call 425-227-1221.

Issued in Renton, Washington, on September 7, 2017.
Jeffrey E. Duven,
Director, System Oversight Division, Aircraft Certification Service.

[FR Doc. 2017-19760 Filed 9-18-17; 8:45 am]

BILLING CODE 4910-13-P